DEPARTMENT OF THE INTERIOR

National Park Service

Final Environmental Impact Statement for the General Management Plan

AGENCY: National Park Service, Interior.

ACTION: Notice of Availability of a Final Environmental Impact Statement for the General Management Plan for Fort Frederica National Monument, Saint Simons Island, Georgia.

SUMMARY: Pursuant to section 102(2)(c) of the National Environmental Policy Act of 1969, the National Park Service (NPS) announces the availability of a Final Environmental Impact Statement and General Management Plan (FEIS/GMP) for Fort Frederica National Monument, St. Simons Island, Georgia.

DATES: The Draft EIS/GMP was on public review from October 15, 2001 through December 15, 2001. Responses to public comment are addressed in the FEIS/GMP. A 30-day no-action period will follow the Environmental Protection Agency's Notice of Availability of the FEIS/GMP. After the 30-day period, a Record of Decision will be signed that will document NPS approval of the FEIS/GMP and identify the selected alternative for implementation.

ADDRESSES: Copies of the FEIS/GMP are available from the Superintendent, Fort Frederica National Monument, Route 9, Box 286-C, St. Simons Island, Georgia 31522. Public reading copies of the FEIS/GMP will also be available for review at the following locations:

• Division of Planning and Compliance, Southeast Regional Office, National Park Service, Attention: David Libman, 100 Alabama Street, 1924 Building, Atlanta, Georgia 30303, Telephone: 404-562-3124, ext. 685.

FOR FURTHER INFORMATION CONTACT: Superintendent, Fort Frederica National Monument, Route 9, Box 286C, St. Simons Island, Georgia 31522, Telephone: 912-638-3639

SUPPLEMENTARY INFORMATION: Consistent with the park's purpose, significance, and mission goals, the FEIS/GMP analyzes 4 alternatives for guiding management of the park over the next 15 to 20 years. The alternatives incorporate various management prescriptions to ensure resource protection and quality visitor experience conditions. The environmental consequences anticipated from implementing the various alternatives are addressed in the document. Impact topics include cultural resources, natural resources, visitor use and experience, and the socioeconomic environment. The following management alternatives were evaluated in the FEIS/GMP:

Alternative A would emphasize the use of archeological methods and the tangible discoveries of archeological investigations to tell the story to visitors. Active archeological investigations would occur regularly. There would be opportunities for visitors to interact actively with archeologists on site and in labs, and with other park staff. Under this alternative, the park would provide additional archeological infrastructure including a lab to wash, screen, dry, number, and store artifacts in a controlled (humidity, temperature, insects) environment. There would also be office space for a curator and an archeologist as well as classrooms, additional exhibit space, and storage space for equipment.

Alternative B, which is NPS's preferred alternative, would enable the visitor to experience some of the sights, sounds, smells, and other sensory impressions of daily life in the Fort Frederica colonial military settlement on Saint Simons Island, Georgia. Although archeological field investigations could occur that would provide information on landscape elements and other features of the settlement, there would be no construction of additional labs or other facilities as in Alternative A. There would be increased emphasis on re-establishing a visual impression of the colonial Frederica scene by using suitable methods such as appropriate trees, shrubs, ground covers, and other fitting and historically accurate landscape elements. Also, when the existing visitor center and administrative complex becomes functionally obsolete, the NPS would seek authority and funding to demolish it, clear the site, and build a new visitor center in a currently developed or previously disturbed area that is not visible from the historic town site. Administrative offices would be relocated to renovated park residences. The area formerly occupied by the visitor center and parking area would be replanted with native trees and shrubs and allowed to return to a more natural forested condition. Finally, Alternative B provides for the possibility of constructing a dock on the Frederica River to permit tour boats and water taxis to bring visitors to the site in the same manner that the original Frederica settlers arrived.

Alternative C would add additional interpretive themes to the story of colonial Frederica to place the monument site in the broader context of coastal sea island history. These themes would include pre-European, post-contact, plantation, and other historical periods associated with the Frederica site. Some on-site archeology would occur to reveal information necessary to interpret these other historical periods. The primary focus would remain the Fort Frederica settlement period, but the expanded number of stories would require an expansion of the visitor center to accommodate additional exhibits and programs.

Alternative D is the no-action alternative, which would continue current management practices and policies into the future. Current interpretive programs include an aging 25-minute visitor center film, ranger-led tours, living history demonstrations, trade and craft demonstrations, military encampments, and the annual Frederica Festival held the first weekend in March. Current resource management activities include riverbank stabilization, monitoring and maintenance of historic structures and earthworks, hazardous tree management, and management of the park's museum collection.

The responsible official for this Environmental Impact Statement is Jerry Belson, Regional Director, Southeast Region, National Park Service, 100 Alabama Street SW., 1924 Building, Atlanta, Georgia 30303.

Dated: July 16, 2002.
Patricia A. Hooks,
Acting Regional Director, Southeast Region.

[FR Doc. 02-24067 Filed 9-20-02; 8:45 am]

BILLING CODE 4310-40-P